DEPARTMENT OF AGRICULTURE

Food Safety and Inspection Service

[Docket No. FSIS-2009-0023]

Codex Alimentarius Commission: Meeting of the Codex Committee on Nutrition and Foods for Special Dietary Uses

AGENCY: Office of the Acting Under Secretary for Food Safety, USDA.

ACTION: Notice of public meeting and request for comments.

SUMMARY: The Office of the Acting Under Secretary for Food Safety, U.S. Department of Agriculture (USDA), and the Food and Drug Administration (FDA), U.S. Department of Health and Human Services (HHS), are sponsoring a public meeting on October 8, 2009. The objective of the public meeting is to provide information and receive public comments on agenda items and draft United States positions that will be discussed at the 31st Session of the Codex Committee on Nutrition and Foods for Special Dietary Uses (CCNFSDU) of the Codex Alimentarius Commission (Codex), which will be held in Düsseldorf, Germany on November 2-November 6, 2009. In addition, a working group will meet on October 31st on the Development of Nutrient Reference Values for Nutrients Associated with Increased or Decreased Risk of Non-communicable Diseases. The Acting Under Secretary for Food Safety and FDA recognize the importance of providing interested parties the opportunity to obtain background information on the 31st Session of the CCNFSDU and to address items on the agenda.

DATES: The public meeting is scheduled for Thursday, October 8, 2009, from 1 p.m. to 4 p.m.

ADDRESSES: The public meeting will be held in the Auditorium (1A003), Food and Drug Administration, Harvey Wiley Federal Building, 5100 Paint Branch Parkway, College Park, MD 20740. Parking is adjacent to this building and will be available at no charge to individuals who pre-register by the date below (See Pre-Registration). In addition, the College Park metro station is across the street. Codex documents related to the 31st Session of the CCNFSDU will be accessible via the World Wide Web at the following address: http://www.codexalimentarius.net/current.asp.

Pre-Registration: To gain admittance to this meeting, individuals must present a photo ID for identification and also are required to pre-register. In addition, no cameras or videotaping equipment will be permitted in the meeting room. To pre-register, please send the following information to this e-mail address (nancy.crane@fda.hhs.gov) by October 1st, 2009:

—Your Name.

—Organization.

—Mailing Address.

—Phone number.

—E-mail address.

For Further Information about the 31st Session of the CCNFSDU Contact: Nancy Crane, Assistant to the U.S. Delegate to the CCNFSDU, Office of Nutrition, Labeling and Dietary Supplements, Center for Food Safety and Applied Nutrition, FDA, 5100 Paint Branch Parkway (HFS-830), College Park, MD 20740, Phone: (301) 436-1450, Fax: (301) 436-2636, E-mail: nancy.crane@fda.hhs.gov.

For Further Information about the Public Meeting Contact: Doreen Chen-Moulec, Staff Officer, U.S. Codex Office, Food Safety and Inspection Service (FSIS), Room 4861, South Building, 1400 Independence Avenue, SW., Washington, DC 20250, Phone: (202) 720-4063, Fax: (202) 720-3157, e-mail: Doreen.chen-moulec@fsis.usda.gov.

SUPPLEMENTARY INFORMATION:

Background

The Codex Alimentarius Commission (Codex) was established in 1963 by two United Nations organizations, the Food and Agriculture Organization and the World Health Organization. Through adoption of food standards, codes of practice, and other guidelines developed by its committees, and by promoting their adoption and implementation by governments, Codex seeks to protect the health of consumers and ensure that fair practices are used in trade.

The CCNFSDU was established to study specific nutritional problems assigned to it by the Codex and advise the Codex on general nutritional issues; to draft general provisions as appropriate, concerning the nutritional aspects of all foods; to develop standards, guidelines, or related texts for foods for special dietary uses, in cooperation with other committees when necessary; and to consider, amend if necessary, and endorse provisions on nutritional aspects proposed for inclusion in Codex standards, guidelines, and related texts. The Committee is hosted by the Federal Republic of Germany.

Issues To Be Discussed at the Public Meeting

The following items on the agenda for the 31st Session of the Committee will be discussed during the public meeting:

• Matters Referred to the Committee from Other Codex Bodies.

• List of Methods for Dietary Fiber.

• Proposed Draft Additional or Revised Nutrient Reference Values for Labeling Purposes in the Codex Guidelines on Nutrition Labeling.

• Proposal for New Work to Amend the Codex General Principles for the Addition of Essential Nutrients to Foods (Revised).

• Proposal for New Work to Establish a Standard for Processed Cereal-Based Foods for Underweight Infants and Young Children (Revised).

• Proposal to Revise the Codex Guidelines on Formulated Supplementary Foods for Older Infants and Young Children (Revised).

• Discussion Paper on Nutrient Reference Values for Nutrients Associated with Risk of Noncommunicable Diseases.

Each issue listed will be fully described in documents distributed, or to be distributed, by the Secretariat prior to the meeting. Members of the public may access copies of these documents at http://www.codexalimentarius.net/current.asp.

Public Meeting

At the October 8, 2009, public meeting, draft U.S. positions on these agenda items will be described and discussed, and attendees will have the opportunity to pose questions and offer comments. Written comments may be offered at the meeting or sent to the U.S. Delegate for the 31st Session of the CCNFSDU, Dr. Barbara Schneeman, at CCNFSDU@fda.hhs.gov. Written comments should state that they relate to activities of the 31st Session of the CCNFSDU.

Additional Public Notification

Public awareness of all segments of rulemaking and policy development is important. Consequently, in an effort to ensure that minorities, women, and persons with disabilities are aware of this notice, FSIS will announce it online through the FSIS Web page located at http://www.fsis.usda.gov/regulations/2009_Notices_Index/. FSIS will also make copies of this Federal Register publication available through the FSIS Constituent Update, which is used to provide information regarding FSIS policies, procedures, regulations, Federal Register notices, FSIS public meetings, and other types of information that could affect or would be of interest to constituents and stakeholders. The FSIS Constituent Update is communicated via Listserv, a free electronic mail subscription service for industry, trade groups, consumer interest groups, health professionals, and other individuals who have asked to be included. The FSIS Constituent Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC on August 17, 2009.
Barbara McNiff,
Acting U.S. Manager for Codex Alimentarius.

[FR Doc. E9-20033 Filed 8-19-09; 8:45 am]

BILLING CODE 3410-DM-P